DEPARTMENT OF DEFENSE

Office of the Secretary

Reserve Forces Policy Board (RFPB); Notice of Federal Advisory Committee Meeting

AGENCY: Under Secretary of Defense for Personnel and Readiness (USD(P&R)), Department of Defense (DoD).

ACTION: Notice of Federal Advisory Committee meeting.

SUMMARY: The DoD is publishing this notice to announce that the following Federal Advisory Committee meeting of the RFPB will take place.

DATES: The RFPB will hold a closed meeting on Wednesday, December 7, 2022 from 8:30 a.m. to 4 p.m.

ADDRESSES: The RFPB meeting address is the Pentagon Gardner Room, Army Conference Center (3D684), Arlington, VA.

FOR FURTHER INFORMATION CONTACT: Alexander Sabol, Designated Federal Officer (DFO), (703) 618-2470 (Voice), Alexander.J.Sabol.Civ@Mail.Mil (Email). Mailing address is Reserve Forces Policy Board, 5109 Leesburg Pike, Suite 501, Falls Church, VA 22041. The most up-to-date changes to the meeting agenda can be found on the website at http://rfpb.defense.gov/.

SUPPLEMENTARY INFORMATION: Due to circumstances beyond the control of the DFO, the RFPB was unable to provide public notification required by 41 CFR. 102-3.150(a) concerning its December 7, 2022 meeting Accordingly, the Advisory Committee Management Officer for the Department of Defense, pursuant to 41 CFR. 102-3.150(b), waives the 15-calendar day notification requirement. This meeting is being held under the provisions of the Federal Advisory Committee Act (FACA) (5 U.S.C., appendix), the Government in the Sunshine Act (5 U.S.C. 552b), and 41 CFR. 102-3.140 and 102-3.150.

Purpose of the Meeting: The purpose of the meeting is to obtain, review, and evaluate information related to strategies, policies, and practices designed to improve and enhance the capabilities, efficiency, and effectiveness of the Reserve Components.

Agenda: The RFPB will hold a closed meeting from 8:30 a.m. to 4 p.m., that will consist of remarks to the RFPB from following invited speakers: USD(P&R) will discuss his guidance on Reserve Component policies and his views on key challenges for the Reserve Component in supporting the Total Force programs in a contested Homeland; Deputy Assistant Secretary of Defense for Strategy and Force Development, Office of the Deputy Under Secretary of Defense for Strategy, Plans and Forces, Office of the Under Secretary of Defense for Policy will provide an overview of the National Defense Strategy focusing on Homeland Defense and Reserve Component roles in protecting critical infrastructure in a contested homeland; Assistant Secretary of Defense for Manpower & Reserve Affairs (ASD (M&RA)), Office of the Under Secretary of Defense for Personnel and Readiness will discuss guidance on ASD M&RA's priorities to include policies and programs involving the Reserve Component equipment, facilities and personnel readiness, and his views on key roles of the Reserve Component in a contested Homeland; Chair, Subcommittee for the Reserve Components' Role in Homeland Defense and Support to Civil Authorities Subcommittee will discuss the Subcommittee's focused priorities involving the Reserve Component Roles in Homeland Defense and support to civil authorities in defending the Nation's critical infrastructure; Cyber Mutual Assistance Program Electricity Subsector Coordinating Council Lead will discuss the electric power industry efforts to prepare for, and respond to, national-level disasters or threats to critical infrastructure and interagency coordination with the Federal Government and the Reserve Components; Chief, National Guard Bureau (CNGB) will discuss National Guard priorities in and challenges with defending the Homeland and use of the National Guard to support the defense of a contested Homeland and support to civil authorities; Deputy Assistant Secretary of Defense Cyber Policy, Office of the Assistant Secretary of Defense for Homeland Defense and Global Security, Office of the Under Secretary of Defense for Policy will discuss Cyber Policy's priorities in defending a contested Homeland and utilization of the Reserves and National Guard in Cyber operations; Assistant Secretary of Defense for Homeland Defense and Global Security, Office of the Under Secretary of Defense for Policy will discuss her guidance on Homeland Defense and Hemispheric Affairs priorities to include Reserve Components' policies and programs, and her views on key Reserve Component roles to support defense of a contested Homeland; the Homeland Combatant Commanders and CNGB's Panel will discuss priorities in defending the Homeland and use of the Reserves and National Guard to defend a contested Homeland, and will conclude with the Chairman who will process the day's discussion and determine where the Board can use its role to best provide support the taskings of the Secretary of Defense and the Sponsor, USD(P&R).

Meeting Accessibility: Pursuant to section 10(a)(1) of the FACA and 41 CFR 102-3.140 through 102-3.165, this meeting is closed to the public. In accordance with section 10(d) of the FACA, 5 U.S.C. 552b(c), and 41 CFR. 102-3.155, the DoD has determined that this meeting scheduled to occur from 8:30 a.m. to 4 p.m. will be closed to the public. Specifically, the USD(P&R), in coordination with the DoD FACA Attorney, has determined in writing that the meeting will be closed to the public because it is likely to disclose classified matters covered by 5 U.S.C. 552b(c)(1).

Written Statements: Pursuant to section 10(a)(3) of the FACA and 41 CFR. 102-3.105(j) and 102-3.140, interested persons may submit written statements to the RFPB about its approved agenda or at any time on the RFPB's mission. Written statements should be submitted to the RFPB's DFO at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The DFO will review all timely submitted written statements and provide copies to all the RFPB members before the meeting that is the subject of this notice. Please note that since the RFPB operates in accordance with the provisions of the FACA, all submitted comments and public presentations will be treated as public documents and will be made available for public inspection, including, but not limited to, being posted on the RFPB's website.

Dated: November 29, 2022.
Kayyonne T. Marston,
Alternate OSD Federal Register Liaison Officer, Department of Defense.

[FR Doc. 2022-26256 Filed 12-1-22; 8:45 am]

BILLING CODE 5001-06-P